DEPARTMENT OF JUSTICE

Notice of Lodging of Consent Decree Under the Comprehensive Environmental Response, Compensation, and Liability Act

Notice is hereby given that on June 22, 2010, a proposed Consent Decree in United States and Commonwealth of Pennsylvania Department of Environmental Protection v. Williamsport Sanitary Authority, Civil Action No. 4:10-cv-01304 was lodged with the United States District Court for the Middle District of Pennsylvania. The proposed Consent Decree, lodged on June 22, 2010, resolves the liability of defendant Williamsport Sanitary Authority (“WSA”) for violations of the Clean Water Act, 42 U.S.C. and the Pennsylvania Clean Streams Act, 35 P.S. §§ 691.1 et seq. alleged in a Complaint filed on June 22, 2010. The Consent Decree requires WSA to expand the treatment capacity of its Central Wastewater Treatment Plant and to increase its storage capacity to cope with high flow during wet weather to guard against combined sewer overflows to the West Branch of the Susquehanna River. WSA has also agreed to pay a civil penalty of $160,000 to the United States and $160,000 to the Pennsylvania Department of Environmental Protection.

The Department of Justice will receive comments relating to the proposed Consent Decree for a period of thirty (30) days from the date of this publication. Please address comments to the Assistant Attorney General, Environment and Natural Resources Division, by e-mail to pubcomment-ees.enrd@usdoj.gov or regular mail to P.O. Box 7611, U.S. Department of Justice, Washington, DC 20044-7611, and refer to United States and Commonwealth of Pennsylvania Department of Environmental Protection v. Williamsport Sanitary Authority, D.J. Ref. 90-5-1-1-09293.

The Consent Decree may be examined at the Office of the United States Attorney for the Middle District of Pennsylvania, Harrisburg Federal Building and Courthouse, 228 Walnut Street, Suite 220, Harrisburg, PA,11754 and at U.S. EPA Region III, 1650 Arch Street, Philadelphia, PA 19103. During the public comment period, the Consent Decree may also be examined on the following Department of Justice Web site, http://www.usdoj.gov/enrd/consent_decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $15.75 for the Consent Decree only or $262.00 for the Consent Decree and attachments (25 cents per page reproduction cost) payable to the U.S. Treasury or, if by e-mail or fax, forward a check in that amount to the Consent Decree Library at the address above.

Maureen Katz,
Assistant Chief, Environmental Enforcement Section, Environment and Natural Resources Division.

[FR Doc. 2010-15548 Filed 6-25-10; 8:45 am]

BILLING CODE 4410-15-P